DEPARTMENT OF LABOR

Employment and Training Administration

ETA-9016 Report on Alien Claimant Activity; Comment Request

ACTION: Notice; request for comments

SUMMARY: The Department of Labor, as part of its continuing effort to reduce paperwork and respondent burden, conducts a preclearance consultation program to provide the general public and Federal agencies with an opportunity to comment on proposed and/or continuing collections of information in accordance with a provision of the Paperwork Reduction Act of 1995 at 44 U.S.C. 3506(c)(2)(A). This program helps to ensure that requested data can be provided in the desired format, reporting burdens (time and financial resources) are minimized, collection instruments are clearly understood, and the impact of collection requirements on respondents can be properly assessed. Currently, the Employment and Training Administration is soliciting comments concerning the proposed revision/extention for collection of the ETA-9016 Report on Alien Claimant Activity. A copy of the proposed information collection request can be obtained by contacting the office listed below in the addressee section of this notice.

DATES: Written comments must be submitted to the office listed in the addressee's section below on or before August 6, 2001.

ADDRESSES: Office of Workforce Security, Employment and Training Administration, U.S. Department of Labor, Attn: Bob Whiting, Room S-4522, 200 Constitution Avenue NW, Washington, DC 20210. Telephone number: (202) 693-3215 (this is not a toll-free number). Fax: (202) 693-3229. E-mail: rwhiting@doleta.gov.

SUPPLEMENTARY INFORMATION:

I. Background

The ETA-9016 Report is used by the Department of Labor to assess whether (and the extent to which) the requirements of the Immigration and Naturalization Service (INS), Systematic Alien Verification for Entitlement (SAVE) system are cost-effective and otherwise appropriate for the Unemployment Insurance (UI) program. In addition, data from the Alien Claims Activity report is being used to assist the Secretary of Labor in determining whether a State Employment Security Agency's administrative costs associated with the verification program are reasonable and reimbursable. There is no other report or system available for collecting this required information. The report allows the Department of Labor to determine the number of aliens filing for UI, the number of benefit issues detected, the denials of benefits to aliens, the extent to which State Agencies use the system, and the overall effectiveness and cost efficiency of the verification system. If SESAs are not required to submit the information on the Alien Claims Activity Report, the Department of Labor would not be able to fulfill its responsibilities to assess the SAVE system.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

In the year 2000, over 1.172 million UI claimants were identified by the SESAs as aliens, constituting almost eight percent of UI claims taken in the nation. Continued collection of the ETA-9016 data will provide for a comprehensive evaluation of alien claims activity. The data is collected quarterly, and an analysis of the data is made for each one-year period. The most recent analysis identified concerns with the consistency of the interpretation of the reporting instructions among the SESAs, each of whom must apply the instructions to claimstaking procedures that vary significantly. In order to encourage more consistency in the reporting by the SESAs, changes are being proposed that will simplify the reporting and decrease the burden.

Currently, seven items are reported on the ETA-9016 Report:

1. Initial claims where claimant is not a citizen.

2. Number of claimants verified through the INS designated automated system.

3. Number of secondary (mail) verifications through the INS.

4. Nonmonetary determinations resulting from the verification in items number 2 and/or 3.

5. Denials resulting from issues in item number 4.

6. Nonmonetary determinations on the alien issue not a result of verification through the INS designated automated system or secondary INS verification.

7. Denials resulting from issues in item number 6. ETA proposes to consolidate items 4-7 into two items as follows:

• Nonmonetary determinations on the alien issue.

• Denials resulting from the nonmonetary determinations on the alien issue.

The effectiveness of the SAVE verification process is well established. For the year 2000, it is estimated that over $24 million was realized by identifying and denying benefits to ineligible aliens through the SAVE process. The total savings for the past 10 years is estimated at over $100 million. Thus, it is no longer deemed necessary to justify use of the SAVE process on a national basis.

Consolidation of the reporting items on nonmonetary determinations will eliminate the distinction between issues detected through the SAVE process and issues detected through other means, as will consolidation of the reporting items on denials. The Department of Labor believes that this will simplify the reporting process by reducing the burden, with no corresponding loss of the Department of Labor's ability to evaluate the effectiveness and cost efficiency of the SAVE process in the individual SESAs.

Type of Review: Revision.

Agency: Employment and Training Administration.

Title: Alien Claims Activity Report.

OMB Number: 1205-0268.

Agency Number: ETA-9016.

Affected Public: State Governments.

Total Respondents: 53 State Agencies.

Frequency: Quarterly.

Total Responses: 212.

Average Time per Response: 1 hour.

Estimated Total Burden Hours: 212 hours.

Total Burden Cost (capital/startup): $10,200 which is a one time cost of reprogramming the State systems.

Total Burden Cost (operating/maintaining): $5300 which is allowable cost under the administrative grants awarded to States by the Federal government.

Comments submitted in response to this comment request will be summarized and/or included in the request for Office of Management and Budget approval of the information collection request; they will also become a matter of public record.

Dated: May 29, 2001.
Cheryl Atkinson,
Director, Office of Income Support.

[FR Doc. 01-14096 Filed 6-4-01; 8:45 am]

BILLING CODE 4510-30-P